DEPARTMENT OF DEFENSE

Department of the Navy

[Docket ID: USN-2023-HQ-0005]

Proposed Collection; Comment Request

AGENCY: Department of the Navy, Department of Defense (DoD).

ACTION: 60-Day information collection notice.

SUMMARY: In compliance with the Paperwork Reduction Act of 1995, the Department of the Navy announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 21, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the Department of the Navy Information Management Control Officer, 2000 Navy Pentagon, Rm. 4E563, Washington, DC 20350, ATTN: Ms. Sonya Martin, or call 703-614-7585.

SUPPLEMENTARY INFORMATION: Title; Associated Form; and OMB Number: CHINFO Brand and Opinion Research Study; OMB Control Number 0703-GLPS.

Needs and Uses: The Navy Chief of Information (CHINFO) is required to provide public affairs advice to the Secretary of the Navy and the Chief of Naval Operations. In order to provide informed advice, it is critical that CHINFO be able to assess the communication environment. To do so, it is necessary for the Navy to conduct recurrent national surveys to determine what Americans understand about their Navy and how this understanding changes over time. It is also necessary to conduct targeted surveys as needed to determine the impact of individual communication activities. Periodic brand and opinion research assessments using scientific methods that collect and evaluate quantitative and qualitative research will allow CHINFO to understand the general public's perceptions, knowledge, issue awareness, message exposure, recall and salience, and engagement with the Navy. This understanding will allow CHINFO to adjust its communication efforts to better communicate with the public and better advise the Secretary of the Navy and the Chief of Naval Operations on public awareness and sentiment toward the Navy.

Affected Public: Individuals or households.

Annual Burden Hours: 1,118.

Number of Respondents: 4,418.

Responses per Respondent: 1.

Annual Responses: 4,418.

Average Burden per Response: 15.18 minutes.

Frequency: Quarterly for recurrent national surveys; On Occasion for targeted surveys.

CHINFO collects both qualitative and quantitative primary research data. The quantitative research is conducted quarterly using an existing online panel of at least 1,000 randomly sampled American adults. Quantitative research is also conducted at Navy events to determine the events' impact on Americans' perception of their Navy. Additionally, four times per year, the Navy will conduct pre-test and post-test pulse assessments to gauge the effectiveness of communication campaigns managed by CHINFO. These pulse assessments will be conducted either quantitatively or qualitatively.

Dated: January 17, 2023.
Aaron T. Siegel,
Alternate OSD Federal Register Liaison Officer, Department of Defense.

[FR Doc. 2023-01077 Filed 1-19-23; 8:45 am]

BILLING CODE 5001-06-P